DEPARTMENT OF TRANSPORTATION

Federal Aviation Administration

14 CFR Parts 1, 23, 25, 27, 29, 61, 91, 121, 125, and 135

[Docket No.: FAA-2013-0485; Amdt. Nos. 1-70, 23-63, 25-144, 27-48, 29-56, 61-139, 91-345, 121-376, 125-66, and 135-135]

RIN 2120-AJ94

Revisions to Operational Requirements for the Use of Enhanced Flight Vision Systems (EFVS) and to Pilot Compartment View Requirements for Vision Systems

Correction

In rule document 2016-28714 appearing on pages 90126-90177 in the issue of Tuesday, December 13, 2016, make the following correction:

On page 90174, in the third column, in the 18th through 22nd line, paragraph (iii) should read

§ 91.176(b)(3)(iii) [Corrected]

“(iii) At 100 feet above the touchdown zone elevation of the runway of intended landing and below that altitude, the flight visibility must be sufficient for one of the following visual references to be distinctly visible and identifiable to the pilot without reliance on the EFVS—”

[FR Doc. C1-2016-28714 Filed 1-6-17; 8:45 am]

BILLING CODE 1301-00-D